DEPARTMENT OF ENERGY

[OE Docket No. PP-371]

Notice of Public Hearings for the Draft Northern Pass Transmission Line Project Environmental Impact Statement (DOE/EIS-0463)

AGENCY: U.S. Department of Energy.

ACTION: Notice of public hearings.

SUMMARY: The U.S. Department of Energy (DOE) announces public hearings to receive comments on the Draft EIS. The Draft EIS evaluates the environmental impacts of DOE's proposed Federal action of issuing a Presidential permit to the Applicant: Northern Pass LLC, to construct, operate, maintain, and connect a new electric transmission line across the U.S./Canada border in northern New Hampshire.

DATES: Written comments on the Draft EIS must be received by October 29, 2015. See SUPPLEMENTARY INFORMATION for the dates and times of the public hearings.

ADDRESSES: Written comments should be sent to:

Mr. Brian Mills, Office of Electricity Delivery and Energy Reliability (OE-20), U.S. Department of Energy, 1000 Independence Avenue SW., Washington, DC 20585.

Via email to: draftEIScomments@northernpasseis.us

By facsimile to: (202) 586-8008

Or through the project Web site at: http://www.northernpasseis.us/

See SUPPLEMENTARY INFORMATION for the locations of the public hearings.

FOR FURTHER INFORMATION CONTACT: Mr. Brian Mills at the addresses above, or at 202-586-8267.

SUPPLEMENTARY INFORMATION: DOE will conduct public hearings to receive oral comments on the draft EIS at the following locations commencing at the times identified:

Concord: Tuesday October 06, 2015, 6:00 p.m., Grappone Conference Center, Granite Ballroom, 70 Constitution Avenue, Concord, NH 03301.

Whitefield: Wednesday October 07, 2015, 1:00 p.m. and 6:00 p.m., Mountain View Grand Resort and Spa, Presidential Room, 101 Mountain View Road, Whitefield, NH 03598.

Plymouth: Thursday October 08, 2015, 6:00 p.m., Plymouth State University, Ice Arena Welcome Center, 129 NH Route 175A, Holderness, NH 03245.

Requests to pre-register to provide oral comments at a public hearing should be addressed to the Northern Pass EIS Team at this email address: info@northernpasseis.us. Please include your full name and email address, and specify the location you request to speak at. For the Whitefield, NH meeting, please indicate which meeting time you wish to speak at. Please state in the subject line, “NP Draft EIS Public Hearing Speaker Request.” Please submit your request by September 30, 2015; requests received by that date will be given priority in the speaking order. However, requests to speak may also be made at the hearing. The speaking order will be as follows: (1) Elected Officials; (2) Pre-registered speakers (order determined on a first-come, first-served basis); (3) Speakers registering at the meeting. Pre-registered speakers who have requested to speak at a specific time will be accommodated as possible. Requests to provide oral comments at the public hearings may be made at the time of the hearing(s).

DOE invites interested Members of Congress, state and local governments, other Federal agencies, American Indian tribal governments, organizations, and members of the public to provide comments on the Draft EIS during the 90-day public comment period. The public comment period started on July 31, 2015, with the publication in the Federal Register by the U.S. Environmental Protection Agency of its Notice of Availability of the Draft EIS, and will continue until October 29, 2015.

Comments on the draft EIS can be submitted verbally during public hearings or in writing to Mr. Brian Mills using the methods set out in the ADDRESSES section. Please mark envelopes and electronic mail subject lines as “NP Draft EIS Comments.” Written and oral comments will be given equal weight and all comments received or postmarked by that date will be considered by DOE in preparing the Final EIS. Comments received or postmarked after that date will be considered to the extent practicable.

Availability of the Draft EIS The document is available online at http://www.northernpasseis.us/. Copies of the draft EIS are also available at a number of public libraries and town halls (a list of locations is found here: http://media.northernpasseis.us/media/DraftEIS_Hard_Copy_Locations.pdf) Printed copies of the document may be obtained by contacting Mr. Mills at the above address.

Issued in Washington, DC on August 19, 2015.
Patricia A. Hoffman,
Assistant Secretary, Office of Electricity Delivery and Energy Reliability.

[FR Doc. 2015-21317 Filed 8-27-15; 8:45 am]

BILLING CODE 6450-01-P